NUCLEAR REGULATORY COMMISSION

[NRC-2010-0290]

Biweekly Notice; Applications and Amendments to Facility Operating Licenses Involving No Significant Hazards Considerations

I. Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from August 25, 2010, to September 8, 2010. The last biweekly notice was published on August 24, 2010 (75 FR 52039).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order, which may be entered in the proceeding on the requestor's/petitioner's interest. The petition must also identify the specific contentions, which the requestor/petitioner seeks to have litigated at the proceeding.

Each contention must consist of a specific statement of the issue of law or fact to be raised or controverted. In addition, the requestor/petitioner shall provide a brief explanation of the bases for the contention and a concise statement of the alleged facts or expert opinion, which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) A digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Duke Energy Carolinas, LLC, Docket Nos. 50-269, 50-270, and 50-287, Oconee Nuclear Station, Units 1, 2, and 3, Oconee County, South Carolina; Docket Nos. 50-369 and 50-370, McGuire Nuclear Station, Units 1 and 2, Mecklenburg County, North Carolina; Docket Nos. 50-413 and 50-414, Catawba Nuclear Station, Units 1 and 2, York County, South Carolina

Date of amendment request: April 26, 2010.

Description of amendment request: The proposed amendments would revise the Technical Specifications to reflect changes to organization, unit staff responsibility, and unit staff qualifications.

Basis for proposed no significant hazards consideration determination: As required by 10 CFR 50.91(a), the licensee has provided its analysis of the issue of no significant hazards consideration, which is presented below:

1. Does the proposed amendment involve a significant increase in the probability or consequences of an accident previously evaluated?

Response: No.

The proposed TS [Technical Specification] change regarding unit staff qualifications is an administrative change to clarify the current requirements for licensed operator qualifications and training program. With this change, the TS continue to meet the current requirements of 10 CFR 55 [Title 10 of the Code of Federal Regulations (10 CFR) Part 50 Section 55]. Although licensed operator qualifications and training may have an indirect impact on accidents previously evaluated, the NRC [Nuclear Regulatory Commission] considered this impact during the rulemaking process, and by promulgation of the revised 10 CFR 55 rule, concluded that this impact remains acceptable as long as the licensed operator training programs are certified to be accredited and are based on a systems approach to training. The Duke Energy [Duke Energy Carolinas, LLC] licensed operator training program is accredited by NANT [National Academy of Nuclear Training] and is based on a systems approach to training. The proposed TS change takes credit for the NANT accreditation of the licensed operator training program. The TS requirements for all other plant staff qualifications remain unchanged.

The proposed TS change regarding responsibility, organization and high radiation area is administrative in nature to reflect the current titles and responsibilities of station personnel and are consistent with STS [Standard Technical Specifications].

Therefore, the proposed TS changes do not involve a significant increase in the probability or consequences of an accident previously evaluated.

2. Does the proposed amendment create the possibility of a new or different kind of accident from any accident previously evaluated?

Response: No.

The proposed TS change regarding unit staff qualifications is an administrative change to clarify the current requirements for licensed operator qualifications and training program and to conform to the revised 10 CFR 55. As discussed above, although licensed operator qualifications and training may have an indirect impact on the possibility of a new or different kind of accident from any accident previously evaluated, the NRC considered this impact during the rule making process, and by promulgation of the revised rule, concluded that this impact remains acceptable as long as licensed operator training programs are certified to be accredited and based on a systems approach to training. As previously noted, the Duke Energy licensed operator training program is accredited by NANT and is based on a systems approach to training. The proposed TS change takes credit for the NANT accreditation of the licensed operator training program. The TS requirements for all other plant staff qualifications remain unchanged. Additionally, the proposed TS change does not affect plant design, hardware, system operation, or procedures. Therefore, the proposed change does not create the possibility of a new or different kind of accident from any previously evaluated.

The proposed TS change regarding responsibility, organization and high radiation area does not impact any plant systems that are accident initiators nor does it adversely impact any accident mitigating system. No physical changes are being made to the plant. This change is administrative in nature to reflect the current titles and responsibilities of station personnel and consistent with STS. Therefore, the proposed change does not create the possibility of a new or different kind of accident from any previously evaluated.

3. Does the proposed amendment involve a significant reduction in the margin of safety?

Response: No.

The proposed TS change regarding unit staff qualifications is an administrative change to clarify the current requirements applicable to licensed operator qualifications and training program. With this change, the TS continue to be consistent with the requirements of 10 CFR 55. The TS qualification requirements for all other plant staff remain unchanged. Licensed operator qualifications and training can have an indirect impact on the margin of safety. However, the NRC considered this impact during the rulemaking process, and by promulgation of the revised 10 CFR Part 55, determined that this impact remains acceptable when licensees maintain a licensed operator training program that is accredited and based on a systems approach to training. As noted previously, the Duke Energy licensed operator training program is accredited by NANT and is based on a systems approach to training.

The NRC has concluded, as stated in NUREG-1262, that the standards and guidelines provided by the Institute for Nuclear Power Operations' NANT in their training accreditation program are equivalent to those put forth or endorsed by the NRC. As a result, maintaining a NANT accredited, systems approach to licensed operator training program is equivalent to maintaining an NRC approved licensed operator training program which conforms to applicable NRC Regulatory Guides or NRC endorsed industry standards. The margin of safety is maintained by virtue of maintaining the NANT accredited licensed operator training program.

In addition, the NRC published RIS 2001-001 to familiarize licensees with the NRC's current guidelines for the qualification and training of RO [reactor operator] and SO [senior operator] license applicants. This document again acknowledges that the NANT guidelines for education and experience outline acceptable methods for implementing the NRC's regulations in this area.

The proposed TS change regarding responsibility, organization and high radiation area is administrative in nature to reflect the current titles and responsibilities of station personnel and is consistent with STS. Systems and components are not affected, and therefore are capable of performing as designed. The performance of fission product barriers will not be impacted by this proposed change.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Gloria Kulesa.

Duke Energy Carolinas, LLC, Docket Nos. 50-269, 50-270, and 50-287, Oconee Nuclear Station, Units 1, 2, and 3, Oconee County, South Carolina; Docket Nos. 50-369 and 50-370, McGuire Nuclear Station, Units 1 and 2, Mecklenburg County, North Carolina; Docket Nos. 50-413 and 50-414, Catawba Nuclear Station, Units 1 and 2, York County, South Carolina

Date of amendment request: July 28, 2010.

Description of amendment request: The proposed amendments would revise the Emergency Plans to reflect changes to on-shift staffing and augmentation times.

Basis for proposed no significant hazards consideration determination: As required by 10 CFR 50.91(a), the licensee has provided its analysis of the issue of no significant hazards consideration, which is presented below:

1. Does the proposed amendment involve a significant increase in the probability or consequences of an accident previously evaluated?

The proposed amendment changes the minimum staffing levels and augmentation times for emergency response personnel. The proposed changes do not impact the physical configuration or function of plant structures, systems, or components (SSCs) or the manner in which SSCs are operated, maintained, modified, tested, or inspected. The Emergency Plan is activated in response to an accident. It is not an initiator of any accident. The purpose of the Emergency Plan is to assist in mitigating the consequences of accidents. These changes do not result in a reduction of the emergency response organization's capability to respond to an emergency. The emergency planning functions of radiological accident assessment and support of operational accident assessment as well as protective actions (in-plant) are maintained. The proposed changes do not affect the ability of the plan to be a comprehensive emergency plan.

Therefore, it is concluded that these changes do not involve a significant increase in the probability or consequences of an accident previously evaluated.

2. Does the proposed amendment create the possibility of a new or different kind of accident from any accident previously evaluated?

The proposed amendment does not involve any change in the design, configuration, or operation of the nuclear plants. The current plant design, design bases, and plant safety analysis will remain the same. The Limiting Conditions for Operations, Limiting Safety System Settings and Safety Limits as specified in the Technical Specifications are not affected by the proposed changes. As such, the plant conditions for which the design basis accident analyses were performed remain valid. The proposed amendment does not introduce a new mode of plant operation or new accident precursors, does not involve any physical alterations to plant configurations, or make changes to system set points that could initiate a new or different kind of accident. The Emergency Plan is used to respond to an accident. These changes do not result in a reduction of the emergency response organization's capability to respond to an emergency. The proposed changes do not affect the ability of the plan to be a comprehensive emergency plan.

Therefore, it is concluded that these changes do not create the possibility of a new or different kind of accident from any accident previously evaluated.

3. Does the proposed amendment involve a significant reduction in a margin of safety?

The proposed amendment does not involve a change in the design, configuration, or operation of the nuclear plants. The changes do not affect either the way in which the plant structures, systems and components (SSCs) perform their safety function or their design and licensing basis. Plant safety margins are established through Limiting Conditions for Operation, Limiting Safety System Settings and Safety Limits specified in the Technical Specifications. Because there is no change to the physical design of the plant, there is no change to any of these margins.

Therefore, it is concluded that these changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Gloria Kulesa.

Duke Energy Carolinas, LLC, Docket Nos. 50-269, 50-270, and 50-287, Oconee Nuclear Station, Units 1, 2, and 3, Oconee County, South Carolina

Date of amendment request: March 17, 2010.

Description of amendment request: The proposed amendments would revise the Technical Specifications by relocating specific surveillance frequencies to a licensee-controlled program with the implementation of Nuclear Energy Institute (NEI) 04-10, “Risk-Informed Technical Specification Initiative 5B, Risk-Informed Method for Control of Surveillance Frequencies.”

Basis for proposed no significant hazards consideration determination: As required by 10 CFR 50.91(a), the licensee has provided its analysis of the issue of no significant hazards consideration, which is presented below:

1. Does the proposed change involve a significant increase in the probability or consequences of any accident previously evaluated?

Response: No.

The proposed change relocates the specified frequencies for periodic surveillance requirements to licensee control under a new SFCP [Surveillance Frequency Control Program]. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC [Nuclear Regulatory Commission] will continue to be met as described in the plant licensing basis (including the final safety analysis report and bases to TS [Technical Specification]), since these are not affected by changes to the surveillance frequencies. Similarly, there is no impact to safety analysis acceptance criteria as described in the plant licensing basis. To evaluate a change in the relocated surveillance frequency, Duke [Duke Energy Carolinas, LLC] will perform a probabilistic risk evaluation using the guidance contained in NRC approved NEI 04-10, Rev. 1 in accordance with the TS SFCP. NEI [Nuclear Energy Institute] 04-10, Rev. 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Gloria Kulesa.

Duke Energy Carolinas, LLC, Docket Nos. 50-269, 50-270, and 50-287, Oconee Nuclear Station, Units 1, 2, and 3, Oconee County, South Carolina

Date of amendment request: May 6, 2010.

Description of amendment request: The proposed amendments would revise the Technical Specifications to support 24-month fuel cycle operations.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment changes the surveillance frequency from 18 months to 24 months for Surveillance Requirements in the Technical Specifications that are normally a function of the refueling interval. Surveillance Requirement 3.0.2 would allow a maximum surveillance interval of 30 months for these surveillances. Duke Energy's [Duke Energy Carolinas, LLC] evaluations have shown that the reliability of protective instrumentation and equipment will be preserved for the maximum allowable surveillance interval.

The proposed change does not involve any change to the design or functional requirements of the associated systems. That is, the proposed Technical Specification (TS) change neither degrades the performance of, nor increases the challenges to any safety systems assumed to function in the plant safety analysis. The proposed change will not give rise to any increase in operation power level, fuel operating limits or effluents. The proposed change does not affect any accident precursors since no accidents previously evaluated relate to the frequency of surveillance testing and the revision to the frequency does not introduce any accident initiators. The proposed change does not impact the usefulness of the Surveillance Requirements (SRs) in evaluating the operability of required systems and components or the manner in which the surveillances are performed.

In addition, evaluation of the proposed TS change demonstrates that the availability of equipment and systems required to prevent or mitigate the radiological consequences of an accident is not significantly affected because of the availability of redundant systems and equipment or the high reliability of the equipment. Since the impact on the systems is minimal, it is concluded that the overall impact on the plant safety analysis is negligible.

Furthermore, an historical review of surveillance test results and associated maintenance records indicates there is no evidence of any failure that would invalidate the above conclusions. Therefore, the proposed TS change does not significantly increase the probability or consequences of an accident previously evaluated.

2. Does the proposed amendment create the possibility of a new or different kind of accident from any accident previously evaluated?

Response: No.

The proposed amendment does not require a change to the plant design nor the mode of plant operation. No new or different equipment is being installed. No installed equipment is being operated in a different manner. As a result, no new failure modes are being introduced. In addition, the proposed change does not impact the usefulness of the SRs in evaluating the operability of required systems and components or the manner in which the surveillances are performed. Furthermore, an historical review of surveillance test results and associated maintenance records indicates there is no evidence of any failure that would invalidate the above conclusions. Therefore, the implementation of the proposed change will not create the possibility for an accident of a new or different type than previously evaluated.

3. Does the proposed amendment involve a significant reduction in a margin of safety?

Response: No.

The proposed amendment changes the surveillance frequency from 18 months to 24 months for Surveillance Requirements in the Technical Specifications that are normally a function of the refueling interval. Surveillance Requirement 3.0.2 would allow a maximum surveillance interval of 30 months for these surveillances. Although the proposed change will result in an increase in the interval between surveillance tests, the impact on system availability is small based on other, more frequent testing that is performed, the existence of redundant systems and equipment or overall system reliability. There is no evidence of any time-dependent failures that would impact the availability of the systems. The proposed change does not significantly impact the condition or performance of structures, systems and components relied upon for accident mitigation. This change does not alter the existing TS allowable values or analytical limits. The existing operating margin between plant conditions and actual plant setpoints is not significantly reduced due to these changes. The assumptions and results in any safety analyses are not significantly impacted. Therefore, the proposed change does not involve a significant reduction in margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Gloria Kulesa.

Exelon Generation Company, LLC, Docket No. 50-461, Clinton Power Station, Unit No.1, DeWitt County, Illinois

Date of amendment request: June 4, 2010.

Description of amendment request: The proposed amendment would remove a time-related item from Technical Specifications (TS) 3.6.5.1, “Drywell,” and corrects typographical errors introduced into the TS in previous license amendments.

Basis for proposed no significant hazards consideration: As required by 10 CFR 50.91(a), an analysis of the issue of no significant hazards consideration is presented below:

1. Does the proposed amendment involve a significant increase in the probability or consequences of any accident previously evaluated?

Response: No.

The initial conditions and methodologies used in the accident analyses remain unchanged. The proposed changes do not change or alter the design assumptions for the systems or components used to mitigate the consequences of an accident. Therefore, accident analyses results are not impacted.

All changes proposed by EGC in this amendment request are administrative in nature, and include the removal [of] a time-related requirement that has been satisfied and the correction of typographical-type administrative errors. There are no physical changes to the facilities, nor any changes to the station operating procedures, limiting conditions for operation, or limiting safety system settings.

Based on the above discussion, the proposed changes do not involve a significant increase in the probability or consequences of an accident previously evaluated.

2. Does the proposed amendment create the possibility of a new or different kind of accident from any previously evaluated?

Response: No.

None of the proposed changes affect the design or operation of any system, structure, or component in the plant. The safety functions of the related structures, systems, or components are not changed in any manner, nor is the reliability of any structure, system, or component reduced by the revised surveillance or testing requirements. The changes do not affect the manner by which the facility is operated and do not change any facility design feature, structure, system, or component. No new or different type of equipment will be installed. Since there is no change to the facility or operating procedures, and the safety functions and reliability of structures, systems, or components are not affected, the proposed changes do not create the possibility of a new or different kind of accident from any accident previously evaluated.

Based on this evaluation, the proposed changes do not create the possibility of a new or different kind of accident from any accident previously evaluated.

3. Does the proposed amendment involve a significant reduction in a margin of safety?

Response: No.

The proposed changes to the TS are administrative in nature and have no impact on the margin of safety of any of the TS. There is no impact on safety limits or limiting safety system settings. The changes do not affect any plant safety parameters or setpoints.

Based on this evaluation, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Nuclear, 4300 Winfield Road, Warrenville, IL 60555.

NRC Branch Chief: Robert D. Carlson.

Southern California Edison Company, et al., Docket Nos. 50-361 and 50-362, San Onofre Nuclear Generating Station, Units 2 and 3, San Diego County, California

Date of amendment requests: August 16, 2010.

Description of amendment requests: The proposed amendments would revise the Completion Time of Condition A of Technical Specification 3.8.1, “AC [Alternating Current] Sources—Operating,” on a one-time basis to allow a Completion Time of 10 days.

Basis for proposed no significant hazards consideration determination: As required by 10 CFR 50.91(a), the licensee has provided its analysis of the issue of no significant hazards consideration, which is presented below:

1. Does the proposed change involve a significant increase in the probability or consequences of an accident previously evaluated?

Response: No.

This proposed Technical Specification amendment provides a one-time per train extension of the Completion Time of Condition A of Technical Specification 3.8.1, “AC Sources—Operating.” Condition A will be revised on a one-time basis to allow a Completion Time of 10 days. This one-time change would be used once on each train on each unit. The revised Completion Time accommodates maintenance which is to be performed on the 4.16 kV [kilo volt] Class 1E breaker cubicles on both units to replace cracked bottle (bushing) flanges. The bottle flange replacement requires extensive work and cannot be completed within the existing 72-hour (3-day) Completion Time.

The consequences associated with extending the Completion Time by 7 days have been evaluated and there is no significant increase in the probability or consequences of an accident previously evaluated.

The minimum requirements of 10 CFR 50 Appendix A, GDC [General Design Criteria] 17 with the alternate preferred power source circuit unavailable to one of the two redundant 4.16 kV Class 1E buses at a time will continue to be met.

Further, the additional time to effect repairs for the bottles will allow for full inspection and replacement of any degraded condition in a timely manner with the minimum impact to safety.

Consequently, this change does not involve a significant increase in the probability or consequences of an accident previously evaluated.

2. Does the proposed change create the possibility of a new or different kind of accident from accident previously evaluated?

Response: No.

The request for this one-time per train Technical Specification change involves an extension of the Completion Time for Technical Specification 3.8.1, Required Action A.2, associated with restoring compliance with the Technical Specification. The proposed change will not physically alter the present plant configuration nor adversely affect how the plant is currently operated. The plant configuration that would result from use of the revised Completion Time is currently allowed by existing Technical Specifications, only for a shorter duration. This Completion Time change does not create a new or different kind of accident from any kind of accident previously evaluated.

Consequently, there is no possibility of a new or different kind of accident due to this change.

3. Does the proposed change involve significant reduction in a margin of safety?

Response: No.

This proposed Technical Specification amendment provides a one-time per train extension of the Completion Time of Condition A of Technical Specification 3.8.1, “AC Sources—Operating.” Condition A will be revised on a one-time basis to allow a Completion Time of 10 days. This one-time change would be used once on each train on each unit. The revised Completion Time accommodates maintenance which is to be performed on the 4.16 kV Class 1E breaker cubicles on both units to replace cracked bottle (bushing) flanges. The bottle flanges replacement requires extensive work and cannot be completed within the existing 72-hour (3-day) Completion Time.

The minimum requirements of 10 CFR 50 Appendix A, GDC 17 with the alternate preferred power source circuit unavailable to one of the two redundant 4.16 kV Class 1E buses at a time continues to be met.

Further, the additional time to effect repairs for the bottles will allow for full inspection and replacement of any degraded condition in a timely manner with the minimum impact to safety.

Consequently, there is no significant reduction in a margin of safety due to this change.

The NRC staff has reviewed the licensee's analysis and, based on this review, it appears that the three standards of 10 CFR 50.92(c) are satisfied. Therefore, the NRC staff proposes to determine that the amendment requests involve no significant hazards consideration.

Attorney for licensee: Douglas K. Porter, Esquire, Southern California Edison Company, 2244 Walnut Grove Avenue, Rosemead, California 91770.

NRC Branch Chief: Michael T. Markley.

Virginia Electric and Power Company (VEPCO), Docket Nos. 50-280 and 50-281, Surry Power Station, Unit Nos. 1 and 2 (Surry 1 and 2), Surry County, Virginia

Date of amendment request: May 6, 2010.

Description of amendment request: VEPCO proposes a change to the Surry 1 and 2 Technical Specifications (TS) to update the cumulative core burnup applicability limit Effective Full Power Years (EFPY) for Reactor Coolant System (RCS) Heatup and Cooldown Pressure/Temperature (P/T) Limits, Low Temperature Overpressure Protection System (LTOPS) Setpoint, and LTOPS Enabling Temperature (T-enable).

Basis for proposed no significant hazards consideration determination: As required by 10 CFR 50.91(a), the licensee has provided its analysis of the issue of no significant hazards consideration, which is presented below:

1. Does the change involve a significant increase in the probability or consequences of an accident previously evaluated?

Response: No.

The proposed change revises the Surry Units 1 and 2 TS RCS Heatup and Cooldown Limitations figures to reflect an increase in the cumulative core burnup applicability limit to 48 EFPY. The existing Surry TS RCS P/T Limits, LTOPS Setpoint, and T-enable value remain valid and conservative for cumulative core burnups up to 48 EFPY, thus increasing the cumulative core burnup applicability limit for RCS P/T Limits, LTOPS Setpoints and LTOPS T-enable to 48 EFPY has no bearing on the probability or consequences of an accident previously evaluated. These evaluations address the LTOPS design basis mass addition accident (inadvertent charging pump start), heat addition accident (Reactor Coolant Pump (RCP) start with a secondary-to-primary temperature difference of 50°F) and Pressurized Thermal Shock (PTS) events, the analysis of which is covered by 10 CFR 50.61. The increased cumulative core burnup applicability limit is accomplished through application of improved analytical margins provided by Topical Report BAW-2308, Revision 2-A, “Initial RTNDT of Linde 80 Weld Materials,” which was approved by the NRC in March 2008 for use in plant-specific applications. Dominion assessed the effect of the use of the analytical margins and determined that the existing TS limits (RCS P/T Limits, LTOPS Setpoints and LTOPS T-enable) governing reactor vessel integrity remain valid and conservative for cumulative core burnups up to 48 EFPY. No changes to plant systems, structures or components are proposed, and no new operating modes are established. Furthermore, plant operating limits and setpoints are not being changed. Therefore, there is no increase in the probability or consequences of any accident previously evaluated.

2. Does the change create the possibility of a new or different kind of accident from any accident previously evaluated?

Response: No.

No changes to plant operating conditions, operating limits or setpoints are being proposed and no changes to plant systems, structures or components are being implemented. The existing Surry TS RCS P/T Limits, LTOPS Setpoint, and T-enable value remain valid and conservative for cumulative core burnups up to 48 EFPY. Analyses supporting the increased cumulative core burnup applicability limit were performed in accordance with applicable regulatory guidance and confirm that design functions (i.e., ensuring that combined pressure and thermal stresses under normal operation heatup and cooldown conditions and under design basis accident conditions at low temperature) are maintained. Therefore, the proposed change does not create the possibility of any accident or malfunction of a different type previously evaluated.

3. Does the change involve a significant reduction in the margin of safety?

Response: No.

The increased cumulative core burnup applicability limit is accomplished through application of improved analytical margins provided by Topical Report BAW-2308, Revision 2-A, which was approved by the NRC in March 2008 for use in plant-specific applications. Dominion [VEPCO] assessed the effect of the use of the analytical margins and determined that the existing TS P/T Limits, LTOPS Setpoints, and LTOPS T-enable governing reactor vessel integrity remain valid and conservative for cumulative core burnups up to 48 EFPY. No changes to plant systems, structures or components are proposed, and no new operating modes are established. Furthermore, plant operating limits and setpoints are not being changed. Consequently, the existing TS P/T Limit curves, LTOPS Setpoint, and LTOPS T-enable value provide acceptable margin to vessel fracture under both normal operation and LTOPS design basis (mass addition and heat addition) accident conditions for cumulative core burnups up to 48 EFPY. Therefore, the proposed change does not result in a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar St., RS-2, Richmond, VA 23219.

NRC Branch Chief: Gloria Kulesa.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the Internet at the NRC Web site, http://www.nrc.gov/reading-rm/adams.html. If you do not have access to ADAMS or if there are problems in accessing the documents located in ADAMS, contact the PDR Reference staff at 1-(800) 397-4209, (301) 415-4737 or by e-mail to pdr.resource@nrc.gov.

Duke Power Company, LLC, et al., Docket Nos. 50-413 and 50-414, Catawba Nuclear Station, Units 1 and 2, York County, South Carolina; Duke Power Company, LLC, Docket Nos. 50-369 and 50-370, McGuire Nuclear Station, Units 1 and 2, Mecklenburg County, North Carolina; Duke Power Company, LLC, Docket Nos. 50-269, 50-270, and 50-287, Oconee Nuclear Station, Units 1, 2, and 3, Oconee County, South Carolina

Date of application of amendments: September 30, 2009.

Brief description of amendments: The amendments revised the Technical Specifications to allow testing containment spray nozzles for nozzle blockage following activities which could result in nozzle blockage, rather than a fixed periodic basis. Currently the testing for nozzle blockage is performed every 10 years.

Date of issuance: August 24, 2010.

Effective date: As of the date of issuance and shall be implemented within 30 days from the date of issuance.

Amendment Nos.: 261 and 256.

Renewed Facility Operating License Nos. NPF-35 and NPF-52: Amendments revised the licenses and technical specifications.

Amendment Nos.: 259 and 239.

Renewed Facility Operating License Nos. NPF-9 and NPF-17: Amendments revised the licenses and technical specifications.

Amendment Nos.: 369, 371, and 370.

Renewed Facility Operating License Nos. DPR-38, DPR-47, and DPR-55: Amendments revised the licenses and technical specifications.

Date of initial notice in Federal Register: March 9, 2010 (75 FR 10828).

No significant hazards consideration comments received: No.

The Commission's related evaluation of the amendments is contained in a Safety Evaluation dated August 24, 2010.

No significant hazards consideration comments received: No.

Exelon Generation Company, LLC, Docket Nos. 50-237 and 50-249, Dresden Nuclear Power Station, Units 2 and 3, Grundy County, Illinois; Docket Nos. 50-254 and 50-265, Quad Cities Nuclear Power Station, Units 1 and 2, Rock Island County, Illinois

Date of application for amendments: August 28, 2009, as supplemented by letters dated February 5 and June 2, 2010.

Brief description of amendments: The amendments revise Technical Specification 3.4.5, “RCS Leakage Detection Instrumentation,” at each site to support implementation of an alternate method of verifying that leakage in the drywell is within limits.

Date of issuance: August 16, 2010.

Effective date: As of the date of issuance and shall be implemented within 60 days.

Amendment Nos.: 235 and 228, 247 and 242.

Renewed Facility Operating License Nos. DPR-19, DPR-25, DPR-29 and DPR-30. The amendments revised the Technical Specifications and License.

Date of initial notice in Federal Register: November 3, 2009 (74 FR 56886). The February 5 and June 2, 2010, supplements contained clarifying information and did not change the NRC staff's initial proposed finding of no significant hazards consideration.

The Commission's related evaluation of the amendments is contained in a Safety Evaluation dated August 16, 2010.

No significant hazards consideration comments received: No.

Northern States Power Company—Minnesota, Docket Nos. 50-282 and 50-306, Prairie Island Nuclear Generating Plant, Units 1 and 2, Goodhue County, Minnesota

Date of application for amendments: December 28, 2009, as supplemented by letters dated April 19, April 23, and June 17, 2010.

Brief description of amendments: These amendments revise the Facility Operating License and Technical Specifications to reflect an increase in the rated thermal power from 1650 megawatts thermal (MWt) to 1677 MWt (1.64 percent increase). The increase is based upon increased feedwater flow measurement accuracy achieved by using high-accuracy Caldon CheckPlus™ Leading Edge Flow Meter ultrasonic flow measurement instrumentation.

Date of issuance: August 17, 2010.

Effective date: As of the date of issuance and shall be implemented within 180 days.

Amendment Nos.: 197, 186.

Facility Operating License Nos. DPR-42 and DPR-60: Amendments revised the License and Technical Specifications.

Date of initial notice in Federal Register: May 11, 2010 (75 FR 26291).

The supplemental letters contained clarifying information and did not change the initial no significant hazards consideration determination, and did not expand the scope of the original Federal Register notice.

The Commission's related evaluation of the amendments is contained in a Safety Evaluation dated August 17, 2010.

No significant hazards consideration comments received: No.

PSEG Nuclear LLC, Docket No. 50-272, Salem Nuclear Generating Station, Unit No. 1, Salem County, New Jersey

Date of application for amendment: September 21, 2009, as supplemented on February 24, 2010.

Brief description of amendments: The amendment revises Technical Specification (TS) 6.8.4.f, “Primary Containment Leakage Rate Testing Program,” to allow a one-time extension of the Type A integrated leak rate test (ILRT) interval from 10 to 15 years. Specifically, the amendment requires that the next Type A ILRT be performed no later than May 7, 2016.

Date of issuance: August 16, 2010.

Effective date: As of the date of issuance, to be implemented within 60 days.

Amendment No.: 296.

Facility Operating License No. DPR-70: The amendment revised the TSs and the License.

Date of initial notice in Federal Register: November 17, 2009 (74 FR 59262).

The letter dated February 24, 2010, provided clarifying information that did not change the initial proposed no significant hazards consideration determination or expand the application beyond the scope of the original Federal Register notice.

The Commission's related evaluation of the amendment is contained in a Safety Evaluation dated August 16, 2010.

No significant hazards consideration comments received: No.

PSEG Nuclear LLC, Docket Nos. 50-272 and 50-311, Salem Nuclear Generating Station, Unit Nos. 1 and 2, Salem County, New Jersey

Date of application for amendments: September 23, 2009, as supplemented on December 21, 2009.

Brief description of amendments: The amendments revise the Technical Specifications (TSs) to: (1) Delete TS 4.0.5, which pertains to surveillance requirements for inservice inspection (ISI) and inservice testing (IST) of American Society of Mechanical Engineers Boiler and Pressure Vessel Code Class 1, 2 and 3 components; (2) add a new TS for the IST Program to Section 6.0, “Administrative Controls,” of the TSs; and (3) change TSs that currently reference TS 4.0.5 to reference the IST Program or ISI Program, as applicable.

Date of issuance: August 20, 2010.

Effective date: As of the date of issuance, to be implemented within 60 days.

Amendment Nos.: 297 and 279.

Facility Operating License Nos. DPR-70 and DPR-75: The amendments revised the TSs and the Facility Operating Licenses.

Date of initial notice in Federal Register: December 29, 2009 (74 FR 68871).

The letter dated December 21, 2009, provided clarifying information that did not change the initial proposed no significant hazards consideration determination or expand the application beyond the scope of the original Federal Register notice.

The Commission's related evaluation of the amendments is contained in a Safety Evaluation dated August 20, 2010.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—Primarily concerns/issues relating to technical and/or health and safety matters discussed or referenced in the applications.

2. Environmental—Primarily concerns/issues relating to matters discussed or referenced in the environmental analysis for the applications.

3. Miscellaneous—Does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

Southern Nuclear Operating Company, Inc., Docket No. 50-425, Vogtle Electric Generating Plant, Unit 2, Burke County, Georgia

Date of amendment request: August 18, 2010.

Description of amendment request: The amendment revises Technical Specifications (TS) 3.7.14, “Engineered Safety Features (ESF) Room Cooler and Safety-Related Chiller System” such that, with one safety-related chiller train inoperable, the allowed completion time for Condition A is extended from 72 hours to 14 days, on a one-time-only basis. The 14 day allowable outage time will allow time to repair the Unit 2 A-train ESF chiller.

Date of issuance: August 19, 2010.

Effective date: As of the date of issuance, and shall be implemented within 30 days.

Amendment No.: 139.

Facility Operating License No. NPF-81: Amendment revises the technical specifications.

Public comments requested as to proposed no significant hazards consideration (NSHC): No. The Commission's related evaluation of the amendment, finding of emergency circumstances, State consultation, and final NSHC determination are contained in a safety evaluation dated August 19, 2010.

Attorney for licensee: Mr. Arthur H. Domby, Troutman Sanders, NationsBank Plaza, Suite 5200, 600 Peachtree Street, NE., Atlanta, Georgia 30308-2216.

NRC Branch Chief: Gloria Kulesa.

Dated at Rockville, Maryland, this 26th day of August 2010.
For the Nuclear Regulatory Commission.
Joseph G. Giitter,
Director, Division of Operating Reactor Licensing, Office of Nuclear Reactor Regulation.

[FR Doc. 2010-21946 Filed 9-3-10; 8:45 am]

BILLING CODE 7590-01-P